DEPARTMENT OF THE INTERIOR

National Park Service

[NPS-MWR-THRO-21168; PPMWTHRO00/PROIESUC1.380000]

Notice of 30 Day Comment Period for an Environmental Assessment on a Special Use Permit for a Wireless Telecommunication Facility

AGENCY: National Park Service, Interior.

ACTION: Notice; request for comments.

SUMMARY: The National Park Service (NPS) is announcing a 30-day review period for an environmental assessment prepared for a permit request from Verizon Wireless to obtain a right-of-way to replace an existing communication tower with a shorter tower at Theodore Roosevelt National Park, North Dakota. This notice is issued in accordance with the procedures of Director's Order 53, Special Park Uses.

DATES: Comments must be received on, or before October 31, 2016.

ADDRESSES: Information on this application process can be obtained by contacting the Superintendent at Theodore Roosevelt National Park, P.O. Box 7, Medora, North Dakota, 58645-0007, or by telephone at 701-623-4466.

FOR FURTHER INFORMATION CONTACT: Please contact Superintendent Wendy Ross at the address and telephone number listed above.

SUPPLEMENTARY INFORMATION: Theodore Roosevelt National Park (the Park) has received an application from Verizon Wireless to obtain a right of way to replace the park's existing communication tower with a shorter tower to accommodate Verizon Wireless equipment and to mitigate adverse impacts to park resources.

The current and proposed telecommunications site, located just northeast of U.S. Highway 85 at the park's east boundary, is in Township 148 North, Range 99 West, in the northwest quarter of Section 26, in McKenzie County, North Dakota. The current tower accommodates U.S. Forest Service equipment as well as communications equipment belonging to the park that would be relocated to the new tower. The proposed project includes removing the current tower and blinking aviation lighting, and constructing a tower not to exceed 190 feet in height, a 12-foot by 30-foot equipment shed, a small graveled parking area, and supporting underground utilities. The new tower would not have blinking aviation lighting.

The no-action alternative would result in the park continuing to maintain its current tower and require Verizon to construct a second tower just outside the park boundary. The NPS is continuing to evaluate the proposal pursuant to the National Environmental Policy Act, the National Historic Preservation Act, the Telecommunications Act of 1966, and other NPS requirements, policies, and regulations. Impact analyses, including the effects, if any, on cultural resources, will be available for public review on the NPS planning, Environment, and Public Comment (PEPC) Web site at: http://parkplanning.nps.gov/publicHome.cfm. A 30-day public review period for the environmental assessment will be held after the publishing of this notice. Project related background material, including press releases, site photographs, public scoping material, and other project related documents previously released, are available on the PEPC Web site at the address listed above.

Dated: July 13, 2016.
Cameron H. Sholly,
Regional Director.

[FR Doc. 2016-23668 Filed 9-29-16; 8:45 am]

BILLING CODE 4312-52-P